DEPARTMENT OF ENERGY

Federal Energy Regulatory Commission

[Docket No. RM93-11-000]

Revisions to Oil Pipeline Regulations Pursuant to the Energy Policy Act of 1992; Notice of Annual Change in the Producer Price Index for Finished Goods

The Commission's regulations include a methodology for oil pipelines to change their rates through use of an index system that establishes ceiling levels for such rates. The Commission bases the index system, found at 18 CFR 342.3, on the annual change in the Producer Price Index for Finished Goods (PPI-FG), minus point two one percent (PPI-FG−0.21%). The Commission determined in the January 2022 Order ¹ that PPI-FG−0.21% is the appropriate oil pricing index factor for pipelines to use for this period.

¹ Five-Year Rev. of the Oil Pipeline Index, 178 FERC ¶ 61,023, at P 105 (January 2022 Order), reh'g denied, 179 FERC ¶ 61,100 (2022).

The regulations provide that the Commission will publish annually an index figure reflecting the final change in the PPI-FG after the Bureau of Labor Statistics publishes the final PPI-FG in May of each calendar year. The annual average PPI-FG index figures were 250.9 for 2022 and 254.6 for 2023.² Thus, the percent change (expressed as a decimal) in the annual average PPI-FG from 2022 to 2023, minus 0.21 percent, is positive 0.012647.³ Oil pipelines must multiply their July 1, 2023, through June 30, 2024, index ceiling levels ⁴ by positive 1.012647 ⁵ to compute their index ceiling levels for July 1, 2024, through June 30, 2025, in accordance with 18 CFR 342.3(d). For guidance in calculating the ceiling levels for each 12-month period beginning January 1, 1995,⁶ see Explorer Pipeline Company, 71 FERC ¶ 61,416, at n.6 (1995).

² Bureau of Labor Statistics (BLS) publishes the final figure in mid-May of each year. This figure is publicly available from the Division of Industrial Prices and Price Indexes of the BLS, at 202-691-7705, and in print in August in Table 1 of the annual data supplement to the BLS publication Producer Price Indexes via the internet at http://www.bls.gov. To obtain the BLS data, scroll down to “Data Tools” and click on “BLS Popular Series.” At the next screen, under the heading “Price Indexes,” select the box, “PPI Finished Goods 1982=100 (Unadjusted)−WPUFD49207,” then scroll to the bottom of this screen and click on Retrieve data.

³ [254.6-250.9]/250.9 = 0.014747−0.0021 = 0.012647.

⁴ See January 2022 Order, 178 FERC ¶ 61,023, reh'g denied, 179 FERC ¶ 61,100; see also Revisions to Oil Pipeline Reguls. Pursuant to the Energy Pol'y Act of 1992, 178 FERC ¶ 61,046 (2022).

⁵ 1 + 0.012647 = 1.012647.

⁶ For a listing of all prior multipliers issued by the Commission, see the Commission's website, https://www.ferc.gov/industries-data/oil/general-information/oil-pipeline-index.

In addition to publishing the full text of this document in the Federal Register, the Commission provides all interested persons an opportunity to view and/or print the contents of this document via the internet through the Commission's Home Page (http://www.ferc.gov). From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from FERC Online Support at 202-502-6652 (toll free at 1-866-208-3676) or email at ferconlinesupport@ferc.gov, or the Public Reference Room at (202) 502-8371, TTY (202)502-8659. Email the Public Reference Room at public.referenceroom@ferc.gov.

Dated: May 15, 2024.
Debbie-Anne A. Reese,
Acting Secretary.

[FR Doc. 2024-11147 Filed 5-20-24; 8:45 am]

BILLING CODE 6717-01-P